DEPARTMENT OF THE INTERIOR

National Park Service

[NPS-WASO-NAGPRA-12080;2200-1100-665]

Notice of Inventory Completion: Thomas Burke Memorial Washington State Museum, University of Washington, Seattle, WA

AGENCY: National Park Service, Interior.

ACTION: Notice.

SUMMARY: The Thomas Burke Memorial Washington State Museum (Burke Museum) has completed an inventory of human remains, in consultation with the appropriate Indian tribes, and has determined that there is no cultural affiliation between the remains and any present-day Indian tribe. Representatives of any Indian tribe that believes itself to be culturally affiliated with the human remains may contact the Burke Museum. Disposition of the human remains to the Indian tribes stated below may occur if no additional requestors come forward.

DATES: Representatives of any Indian tribe that believes it has a cultural affiliation with the human remains should contact the Burke Museum at the address below by March 21, 2013.

ADDRESSES: Peter Lape, Burke Museum, University of Washington, Box 353010, Seattle, WA 98195-3010, telephone (206) 685-3849.

SUPPLEMENTARY INFORMATION: Notice is here given in accordance with the Native American Graves Protection and Repatriation Act (NAGPRA), 25 U.S.C. 3003, of the completion of an inventory of human remains in the possession of the Burke Museum. The human remains were removed from an unknown location on the Olympic Peninsula, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Burke Museum professional staff in consultation with representatives of Hoh Indian Tribe (previously listed as the Hoh Indian Tribe of the Hoh Indian Reservation, Washington); Jamestown S'Klallam Tribe; Lower Elwha Tribal Community (previously listed as the Lower Elwha Tribal Community of the Lower Elwha Reservation, Washington); Makah Indian Tribe of the Makah Indian Reservation; Port Gamble Band of S'Klallam Indians (previously listed as Port Gamble Indian Community of the Port Gamble Reservation, Washington); Quileute Tribe of the Quileute Reservation; Quinault Indian Nation (previously listed as the Quinault Tribe of the Quinault Reservation, Washington); Skokomish Indian Tribe (previously listed as the Skokomish Indian Tribe of the Skokomish Reservation, Washington); and the Suquamish Indian Tribe of the Port Madison Reservation (hereafter referred to as “The Consulted Tribes”).

History and Description of the Remains

Around 1920, human remains representing, at minimum, one individual were removed from the Olympic Peninsula in Washington State by Paul Benton. No known individuals were identified. In 1940, the human remains were given to the Burke Museum by Dwight Benton (Burke Accn. #3170). No associated funerary objects are present.

Determinations Made by the Burke Museum

Officials of the Burke Museum have determined that:

• Based on cranial morphology and museum accession documentation, the human remains are Native American.

• Pursuant to 25 U.S.C. 3001(2), a relationship of shared group identity cannot be reasonably traced between the Native American human remains and any present-day Indian tribe.

• According to final judgments of the Indian Claims Commission, the land from which the Native American human remains were removed is the aboriginal land of the Jamestown S'Klallam Tribe; Lower Elwha Tribal Community (previously listed as the Lower Elwha Tribal Community of the Lower Elwha Reservation, Washington); Makah Indian Tribe of the Makah Indian Reservation; Port Gamble Band of S'Klallam Indians (previously listed as Port Gamble Indian Community of the Port Gamble Reservation, Washington); Quileute Tribe of the Quileute Reservation; Quinault Indian Nation (previously listed as the Quinault Tribe of the Quinault Reservation, Washington); and the Skokomish Indian Tribe (previously listed as the Skokomish Indian Tribe of the Skokomish Reservation, Washington).

• Multiple lines of evidence including Treaties, Acts of Congress and Executive Orders, indicate that the land from which the Native American human remains were removed is the aboriginal land of the Hoh Indian Tribe (previously listed as the Hoh Indian Tribe of the Hoh Indian Reservation, Washington); Jamestown S'Klallam Tribe; Lower Elwha Tribal Community (previously listed as the Lower Elwha Tribal Community of the Lower Elwha Reservation, Washington); Makah Indian Tribe of the Makah Indian Reservation; Port Gamble Band of S'Klallam Indians (previously listed as Port Gamble Indian Community of the Port Gamble Reservation, Washington); Quileute Tribe of the Quileute Reservation; Quinault Indian Nation (previously listed as the Quinault Tribe of the Quinault Reservation, Washington); and the Skokomish Indian Tribe (previously listed as the Skokomish Indian Tribe of the Skokomish Reservation, Washington) (hereafter referred to as “The Aboriginal Land Tribes”). The Treaty of the Quinault River of 1855 was signed by representatives from the Hoh Indian Tribe (previously listed as the Hoh Indian Tribe of the Hoh Indian Reservation, Washington); Quileute Tribe of the Quileute Reservation; and the Quinault Indian Nation (previously listed as the Quinault Tribe of the Quinault Reservation, Washington). The Treaty of Neah Bay of 1855 was signed by representatives from Makah Indian Tribe of the Makah Indian Reservation. The Treaty of Point No Point of 1855 was signed by representatives from the Jamestown S'Klallam Tribe; Lower Elwha Tribal Community (previously listed as the Lower Elwha Tribal Community of the Lower Elwha Reservation, Washington); Port Gamble Band of S'Klallam Indians (previously listed as Port Gamble Indian Community of the Port Gamble Reservation, Washington); and the Skokomish Indian Tribe (previously listed as the Skokomish Indian Tribe of the Skokomish Reservation, Washington).

• Other credible lines of evidence indicate that the land from which the Native American human remains were removed is the aboriginal land of The Aboriginal Land Tribes.

• Pursuant to 25 U.S.C. 3001(9), the human remains described in this notice represent the physical remains of one individual of Native American ancestry.

• Pursuant to 43 CFR 10.11(c)(1), the disposition of the human remains may be to The Aboriginal Land Tribes. As stated during consultation, the Lower Elwha Tribal Community intends to take the lead on repatriation. The Jamestown S'Klallam Tribe, Port Gamble Band of S'Klallam Indians, and the Skokomish Indian Tribe have stated their support for moving forward with repatriation to the Lower Elwha Tribal Community.

Additional Requestors and Disposition

Representatives of any Indian tribe that believes itself to be culturally affiliated with the human remains or any other Indian tribe that believes it satisfies the criteria in 43 CFR 10.11(c)(1) should contact Peter Lape, Burke Museum, University of Washington, Box 353010, Seattle, WA 98115, telephone (206) 685-3849, before March 21, 2013. Disposition of the human remains to The Aboriginal Land Tribes may proceed after that date if no additional requestors come forward.

The Burke Museum is responsible for notifying The Consulted Tribes that this notice has been published.

Dated: January 9, 2013.
Sherry Hutt,
Manager, National Native American Graves Protection and Repatriation Act Program.

[FR Doc. 2013-03649 Filed 2-15-13; 8:45 am]

BILLING CODE 4312-50-P